DEPARTMENT OF HOMELAND SECURITY

Coast Guard

33 CFR Part 117

[Docket No. USCG-2014-1036]

Drawbridge Operation Regulation; Northeast Cape Fear River, Wilmington, NC

AGENCY: Coast Guard, DHS.

ACTION: Notice of temporary deviation from drawbridge regulation.

SUMMARY: The Coast Guard has issued a temporary deviation from the operating schedule that governs the Isabel S. Holmes Bridge, mile 1.0, across the Northeast Cape Fear River, at Wilmington, NC. The deviation restricts the operation of the draw span to facilitate mechanical repairs to the main breaker of the bridge.

DATES: This deviation is effective from 8 a.m. on February 9, 2015 to 8 p.m. on February 10, 2015.

ADDRESSES: The docket for this deviation, [USCG-2014-1036] is available at http://www.regulations.gov. Type the docket number in the “SEARCH” box and click “SEARCH.” Click on the Open Docket Folder on the line associated with this deviation. You may also visit the Docket Management Facility (in Room W12-140 on the ground floor of the Department of Transportation West Building, 1200 New Jersey Avenue SE., Washington, DC 20590, between 9 a.m. and 5 p.m., Monday through Friday, except Federal holidays.

FOR FURTHER INFORMATION CONTACT: If you have questions on this rule, call or email Mrs. Kashanda L. Booker, Bridge Management Specialist, Fifth District, Coast Guard, telephone 757-398-6227, email Kashanda.L.Booker@uscg.mil. If you have questions on viewing the docket, call Cheryl Collins, Program Manager, Docket Operations, telephone 202-366-9826.

SUPPLEMENTARY INFORMATION: The North Carolina Department of Transportation, who owns and operates this double-leaf bascule bridge, has requested a temporary deviation from the current operating regulations set out in 33 CFR 117.829(a), to facilitate mechanical repair to the main breaker of the bridge. The removal and replacement of this breaker will involve removing power completely from the bridge to ensure a safe working condition.

In the closed position to vessels, the Isabel S. Holmes Bridge has a vertical clearance of 42 feet above mean high water. Under this temporary deviation, the drawbridge will be closed to vessels requiring an opening from 8 a.m. on February 9, 2015 until 8 p.m. on February 10, 2015.

Vessels that can pass under the drawbridge without an opening may do so at all times. There are no alternate routes for vessels transiting this section of the Northeast Cape Fear River. The drawbridge will be unable to open in the event of an emergency. The Coast Guard will also inform the users of the waterways through Local and Broadcast Notices to Mariners of the change in operating schedule for the bridge so that vessels can arrange their transits to minimize any impact caused by the temporary deviation.

In accordance with 33 CFR 117.35(e), the drawbridge must return to its regular operating schedule immediately at the end of the effective period of this temporary deviation. This deviation from the operating regulations is authorized under 33 CFR 117.35.

Dated: December 16, 2014.
James. L. Rousseau,
Bridge Program Manager, Fifth Coast Guard District.

[FR Doc. 2014-30449 Filed 12-29-14; 8:45 am]

BILLING CODE 9110-04-P